DEPARTMENT OF COMMERCE

Submission for OMB Review; Comment Request

The Department of Commerce has submitted to the Office of Management and Budget (OMB) for clearance the following proposal for collection of information under the provisions of the Paperwork Reduction Act (44 U.S.C. chapter 35).

Agency: National Oceanic and Atmospheric Administration (NOAA).

Title: Large Pelagic Fishing Survey.

Form Number(s): None.

OMB Approval Number: 0648-0380.

Type of Request: Regular submission.

Burden Hours: 2,370.

Number of Respondents: 17,000.

Average Hours Per Response: 8 minutes for a telephone interview; 5 minutes for a dockside interview; 2 minutes to respond to a follow-up validation call for dockside interviews; 1 minute for a biological sampling of catch; 28 minutes for a headboat effort and catch survey; and 6 minutes for North Carolina winter bluefin tuna dockside interview.

Needs and Uses: The Large Pelagic Fishing Survey consists of dockside and telephone surveys of recreational anglers for large pelagic fish (tunas, sharks, and billfish) in the Atlantic Ocean. The survey provides the National Marine Fisheries Service with information to monitor catch of bluefin tuna and marlin. The catch monitoring in these fisheries and collection of catch and effort statistics for all pelagic fish is required under the Atlantic Tunas Convention Act and the Magnuson-Stevens Fishery Conservation and Management Act. The information collected is essential for the U.S. to meet its reporting obligations to the International Commission for the Conservation of Atlantic Tuna.

Affected Public: Individuals or households; business or other for-profit organizations.

Frequency: Annually, weekly, and on occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: April 24, 2006.
Gwellnar Banks,
Management Analyst, Office of the Chief Information Officer.

[FR Doc. E6-6386 Filed 4-27-06; 8:45 am]

BILLING CODE 3510-22-P